DEPARTMENT OF TRANSPORTATION

Federal Aviation Administration

Change Notice for RTCA Program Management Committee

AGENCY: Federal Aviation Administration (FAA), DOT.

ACTION: Notice of RTCA Program Management Committee meeting.

SUMMARY: The FAA is issuing this notice to advise the public of a meeting of the RTCA Program Management Committee.

DATES: The meeting will be held August 3, 2005 starting at 9 a.m.

ADDRESSES: The meeting will be held at RTCA, Inc., 1828 L Street, NW., Suite 805, Washington, DC 20036.

FOR FURTHER INFORMATION CONTACT: RTCA Secretariat, 1828 L Street, NW., Suite 850, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Program Management Committee meeting. The revised agenda will include:

• August 3:

• Opening Session (Welcome and Introductory Remarks, Review/Approve Summary of Previous Meeting)

• Publication Consideration/Approval:

• Final Draft, Revised DO-224A, Signal-in-Space Minimum Aviation System Performance Standards (MASPS) for Advanced VHF Digital Data Communications Including Compatibility and Digital Voice Techniques, RTCA Paper No. 114-05/PMC-397, prepared by SC-172.

• Final Draft, Revised DO-272, User Requirements for Aerodrome Mapping Information, RTCA Paper No. 129-05/PMC-400, prepared by SC-193.

• Final Draft, Revised DO-276, User Requirements for Terrain and Obstacle Data, RTCA Paper No. 130-05/PMC-401, prepared by SC-193.

• Discussion:

• SC-205—Software Considerations in Airborne Systems and Equipment Certification.

• Discuss/Approve revised Terms of Reference for additional work to modify RTCA DO-278—Guidelines for Communications, Navigation, Surveillance and Air Traffic Management Systems Software Integrity Assurance.

• PMC Membership Review

• Special Committee chairman's Reports

• Action Item Review:

• Review Status—All open action items

• Closing Session (Other Business, Document Production, Date and Place of Next Meeting, Adjourn)

Attendance is open to the interested public but limited to space availability. With the approval of the chairmen, members of the public may present oral statements at the meeting. Persons wishing to present statements or obtain information should contact the person listed in the FOR FURTHER INFORMATION CONTACT Seciton. Members of the public may present a written statement to the committee at any time.

Issued in Washington, DC, on July 8, 2005.
Natalie Ogletree,
FAA General Engineer, RTCA Advisory Committee.

RTCA Program Management Committee

Date: August 3, 2005.

Time: 9 a.m.

Place: RTCA, Inc., 1828 L Street, NW., Suite 805, Washington, DC 20036.

Agenda

1. Welcome and Introductions

2. Review/Approve Summary of April 7, 2005 PMC Meeting

3. Publication Consideration/Approval

A. Final Draft, Revised DO-224A, Signal-in-Space Minimum Aviation System Performance Standards (MASPS) for Advanced VHF Digital Data Communications Including Compatibility with Digital Voice Techniques, RTCA Paper No. 114-05/PMC-397, prepared by SC-172.

B. Final Draft, Revised DO-272, User Requirements for Aerodrome Mapping Information, RTCA Paper No. 129-05/PMC-400, prepared by SC-193.

C. Final Draft, Revised DO-276, User Requirements for Terrain and Obstacle Data, RTCA Paper No. 130-05/PMC-401, prepared by SC-193.

4. Discussion

A. SC-205—Software Considerations in Airborne Systems and Equipment Certification.

—Discuss/Approve revised Terms of Reference for additional work to modify RTCA DO-278—Guidelines for Communications, Navigation, Surveillance, and Air Traffic Management Systems Software Integrity Assurance.

B. PMC Membership Review

C. Special Committee Chairman's Reports.

5. Action Item Review

6. Other Business

7. Document Production and PMC Meeting Schedule

[FR Doc. 05-13764 Filed 7-12-05; 8:45 am]

BILLING CODE 4910-13-M